DEPARTMENT OF HEALTH AND HUMAN SERVICES

Administration for Children and Families

Submission for OMB Review; Formative Data Collections for ACF Program Support (New Collection)

AGENCY: Office of Planning, Research, and Evaluation, Administration for Children and Families, HHS.

ACTION: Request for public comment.

SUMMARY: The Office of Planning, Research, and Evaluation (OPRE), in the Administration for Children and Families (ACF) at the U.S. Department of Health and Human Services (HHS) intends to request approval from the Office of Management and Budget (OMB) for a generic clearance to conduct a variety of formative data collections with more than nine respondents. These information collections would not be highly systematic or intended to be statistically representative or otherwise generalizable. ACF programs promote the economic and social well-being of families, children, individuals and communities. Many ACF program offices need to learn more about funded program services so that an understanding of program or grantee processes and potential for improvements can inform ACF decision-making and program support. Information collected under this generic would help address these needs.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: Information gathering for program support was originally described under the Formative Data Collections for ACF Research Generic Clearance (0970-0356), but is now being requested as a stand-alone generic clearance. A 60-day comment period was provided as part of the approval process for #0970-0356, which included description of information collections for program support. We are now providing a 30-day comment period specific to this generic clearance for program support.

The goals of the generic information collections under this approval are to obtain information about program and grantee processes or needs, and to inform the following types of activities, among others:

• Delivery of targeted assistance and workflows related to program implementation or the development or refinement of program and grantee processes, and the development and refinement of recordkeeping and communication systems.

• Planning for provision of programmatic or evaluation-related training or technical assistance (T/TA).

• Obtaining grantee or other stakeholder input on the development of program performance measures.

• Use of rapid-cycle testing activities to strengthen programs in preparation for summative evaluation.

• Development of learning agendas and research priorities.

ACF envisions using a variety of techniques such as semi-structured discussions, focus groups, surveys, templates, open-ended requests, and telephone or in-person interviews, in order to reach these goals.

Following standard OMB requirements, OPRE will submit a change request for each individual data collection activity under this generic clearance. Each request will include the individual instrument(s), a justification specific to the individual information collection, and any supplementary documents. OMB should review requests within 10 days of submission.

Respondents: Example respondents include: current or prospective service providers, training or technical assistance (T/TA) providers, grantees, contractors, current and potential participants in ACF programs or similar comparison groups, experts in fields pertaining to ACF programs, key stakeholder groups involved in ACF projects and programs, individuals engaged in program re-design or demonstration development for evaluation, state or local government officials, or others involved in or prospectively involved in ACF programs.

Annual Burden Estimates
Instrument type | Estimated total number of respondents | Estimated number of responses per respondent | Average burden hours per response | Estimated total burden hours
Semi-Structured Discussions and Focus Groups | 2,000 | 1 | 2 | 4,000
Interviews | 1,000 | 1 | 1 | 1,000
Questionnaires/Surveys | 1,000 | * 1.5 | .5 | 750
Templates and Open-ended requests | 250 | 1 | 10 | 2,500
Total |  |  |  | 8,250
* We have estimated 1.5 responses to account for rapid cycle testing, which will require multiple responses.

Authority: Social Security Act, Sec. 1110. [42 U.S.C. 1310].

Mary B. Jones,
ACF/OPRE Certifying Officer.

[FR Doc. 2019-12801 Filed 6-17-19; 8:45 am]

BILLING CODE 4184-79-P